DEPARTMENT OF TRANSPORTATION

Federal Aviation Administration

14 CFR Part 39

[Docket No. 2000-NE-07-AD; Amendment 39-12310; AD 2001-13-28]

RIN 2120-AA64

Airworthiness Directives; Rolls-Royce Limited, Aero Division-Bristol, S.N.E.C.M.A. Olympus 593 Mk. 610-14-28 Turbofan Engines

AGENCY: Federal Aviation Administration, DOT.

ACTION: Final rule; request for comments.

SUMMARY: This amendment adopts a new airworthiness directive (AD) that is applicable to Rolls-Royce Limited, Aero Division-Bristol, S.N.E.C.M.A. (RR) Olympus 593 Mk. 610-14-28 turbofan engines. This action requires replacement of the low-oil pressure (LOP) switch. This amendment is prompted by a report of the failure of the low pressure (LP) and high pressure (HP) rotor thrust bearings due to oil starvation that was caused by the loss of the LOP switch function and resulted in a delayed engine shutdown. The actions specified in this AD are intended to prevent the failure of the LOP switch to indicate an LOP event, which could contribute to uncontained engine failure due to oil starvation in the thrust bearings.

DATES: Effective August 9, 2001. The incorporation by reference of certain publications listed in the rule is approved by the Director of the Federal Register as of August 9, 2001.

Comments for inclusion in the Rules Docket must be received on or before September 10, 2001.

ADDRESSES: Submit comments in triplicate to the Federal Aviation Administration (FAA), New England Region, Office of the Regional Counsel, Attention: Rules Docket No. 2000-NE-07-AD, 12 New England Executive Park, Burlington, MA 01803-5299. Comments may also be sent via the Internet using the following address: “9-ane-adcomment@faa.gov.” Comments sent via the Internet must contain the docket number in the subject line.

The service information referenced in this AD may be obtained from Rolls-Royce Defence (Europe) Technical Publications Department, P.O. Box 3, Filton, Bristol BS34 7QE, England; telephone 011 7979 6060; FAX 011 7979 7234. This information may be examined at the FAA, New England Region, Office of the Regional Counsel, 12 New England Executive Park, Burlington, MA; or at the Office of the Federal Register, 800 North Capitol Street, NW., suite 700, Washington, DC.

FOR FURTHER INFORMATION CONTACT: James Lawrence, Aerospace Engineer, Engine Certification Office, FAA, Engine and Propeller Directorate, 12 New England Executive Park, Burlington, MA 01803-5299; telephone 781-238-7176; fax 781-238-7199.

SUPPLEMENTARY INFORMATION: The Civil Aviation Authority (CAA), which is the airworthiness authority for the United Kingdom (UK), recently notified the FAA that an unsafe condition may exist on RR Olympus 593 Mk. 610-14-28 turbofan engines. The CAA advises that the failure of a low-oil pressure (LOP) switch cable at the LOP switch connector resulted in increased secondary damage after an LP compressor blade failure. The failed blade caused a rotor imbalance, which caused cracking of the oil tank and loss of engine oil. Because the LOP switch cable had failed, no LOP warning was received in the cockpit. Since no LOP warning was received, the engine was not immediately shut down and the LP and HP rotor thrust bearings failed from oil starvation. The failure of the LP and HP compressor rotor bearings caused an increase in secondary damage to the engine.

Manufacturer's Service Information

RR has issued Olympus 593 Service Bulletin (SB) No OL.593-71-9056-33, Revision 2, dated December 7, 2000, that specifies procedures for reworking the plug of existing electrical harness for the LOP switch. The CAA classified this service bulletin as mandatory and issued AD 002-10-98 in order to ensure the airworthiness of these RR engines in the UK.

Bilateral Airworthiness Agreement

This engine model is manufactured in the UK, and is type certificated for operation in the United States under the provisions of § 21.29 of the Code of Federal Regulations (14 CFR 21.29) and the applicable bilateral airworthiness agreement. Pursuant to this bilateral airworthiness agreement, the CAA has kept the FAA informed of the situation described above. The FAA has examined the findings of the CAA, reviewed all available information, and determined that AD action is necessary for products of this type design that are certificated for operation in the United States.

Requirements of This AD

Although none of these affected engine models are used on any airplanes that are registered in the United States, the possibility exists that the engine models could be used on airplanes that are registered in the United States in the future. Because an unsafe condition has been identified that is likely to exist or develop on other Olympus 593 Mk.610-14-28 engines of the same type design, this AD requires reworking the plug of the existing electrical harness for the LOP switch. The actions must be done in accordance with the service bulletin described previously.

Immediate Adoption

Since there are currently no domestic operators of this engine model, notice and opportunity for prior public comment are unnecessary. Therefore, a situation exists that allows the immediate adoption of this regulation.

Comments Invited

Although this action is in the form of a final rule that involves requirements affecting flight safety, and was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons, both before and after the closing date for comments. A report that summarizes each FAA-public contact concerned with the substance of this AD will be filed in the Rules Docket.

Commenters wishing the FAA to acknowledge receipt of their comments submitted in response to this action must submit a self-addressed, stamped postcard on which the following statement is made: “Comments to Docket Number 2000-NE-07-AD.” The postcard will be date stamped and returned to the commenter.

Regulatory Impact

This final rule does not have federalism implications, as defined in Executive Order No. 13132, because it would not have a substantial direct effect on the States, on the relationship between the national government and the States, or on the distribution of power and responsibilities among the various levels of government. Accordingly, the FAA has not consulted with state authorities prior to publication of this final rule.

The FAA has determined that this regulation may be issued immediately to correct an unsafe condition in aircraft, and is not a “significant regulatory action” under Executive Order No. 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Code of Federal Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-13-28 Rolls-Royce Limited, Aero Division-Bristol, S.N.E.C.M.A.: Amendment 39-12310. Docket 2000-NE-07-AD.

Applicability

This airworthiness directive (AD) is applicable to Rolls-Royce Limited, Aero Division-Bristol, S.N.E.C.M.A. (RR) Olympus 593 Mk. 610-14-28 turbofan engines. These engines are installed on, but not limited to, Concorde airplanes.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance

Compliance with this AD is required as indicated below, unless already done.

To prevent the failure of the LOP switch to indicate an LOP event, which could contribute to uncontained engine failure due to oil starvation in the thrust bearings, do the following:

(a) Install a revised LOP switch incorporating an extended support bush in combination with an angled backshell and additional cable slack in accordance with the accomplishment instructions of RR Service Bulletin OL.593-71-9056-33, Revision 2, dated December 7, 2000.

Alternative Methods of Compliance

(b) An alternative method of compliance or adjustment of the compliance time that provides an acceptable level of safety may be used if approved by the Manager, Engine Certification Office (ECO). Operators must submit their requests through an appropriate FAA Principal Maintenance Inspector, who may add comments and then send it to the Manager, ECO.

Note 2: Information concerning the existence of approved alternative methods of compliance with this airworthiness directive, if any, may be obtained from the ECO.

Incorporation by Reference Material

(c) The actions specified in this AD must be done in accordance with the following Rolls-Royce Olympus service bulletin:

Document No. | Pages | Revision | Date
OL.593-71-9056-33 | 1 2-3 4 5 6 7 8 | 2 Original 2 1 Original 2 1 | Dec. 7, 2000. Oct. 5, 1998. Dec. 7, 2000. Feb. 19, 1999. Oct. 5, 1998. Dec. 7, 2000. Feb. 19, 1999.
Total pages: 8

This incorporation by reference was approved by the Director of the Federal Register in accordance with 5 U.S.C. 552(a) and 1 CFR part 51. Copies may be obtained from Rolls-Royce Defence (Europe) Technical Publications Department, P.O. Box 3, Filton, Bristol BS34 7QE, England; telephone 011 44 7979 6060; FAX 011 44 7979 7234. Copies may be inspected at the FAA, New England Region, Office of the Regional Counsel, 12 New England Executive Park, Burlington, MA; or at the Office of the Federal Register, 800 North Capitol Street, NW, suite 700, Washington, DC.

Note 3: The subject of this AD is addressed in CAA airworthiness directive 002-10-98.

Effective Date of This AD

(d) This amendment becomes effective on August 9, 2001.

Issued in Burlington, Massachusetts, on June 28, 2001.
Francis A. Favara,
Acting Manager, Engine and Propeller Directorate,Aircraft Certification Service.

[FR Doc. 01-16926 Filed 7-9-01; 8:45 am]

BILLING CODE 4910-13-P